ENVIRONMENTAL PROTECTION AGENCY

40 CFR Part 271

[EPA-R07-RCRA-2013-0447; FRL-9833-6]

State of Kansas; Authorization of State Hazardous Waste Management Program

AGENCY: Environmental Protection Agency (EPA).

ACTION: Proposed rule.

SUMMARY: Kansas has applied to EPA for final authorization for changes to its hazardous waste program under the Resource Conservation and Recovery Act (RCRA). EPA proposes to grant final authorization to Kansas.

DATES: Comments on this proposed action must be received in writing by August 21, 2013.

ADDRESSES: Submit your comments by one of the following methods:

1. Federal eRulemaking Portal: http://www.regulations.gov. Follow the on-line instructions for submitting comments.

2. Email: haugen.lisa@epa.gov.

3. Mail: Lisa Haugen, Environmental Protection Agency, Region 7, Enforcement Coordination Office, 11201 Renner Boulevard, Lenexa, Kansas 66219.

4. Hand Delivery or Courier: Deliver your comments to Lisa Haugen, Environmental Protection Agency, Region 7, Enforcement Coordination Office, 11201 Renner Boulevard, Lenexa, Kansas 66219. Such deliveries are only accepted during the Regional Office's normal hours of operation of Monday through Friday, 8:00 a.m. to 4:00 p.m., excluding legal holidays.

Please see the immediate final rule which is located in the Rules section of this Federal Register for detailed instructions on how to submit comments.

FOR FURTHER INFORMATION CONTACT: Lisa Haugen, Region 7, Enforcement Coordination Office, 11201 Renner Boulevard, Lenexa, Kansas 66219, Phone number: (913) 551-7877, or email address: haugen.lisa@epa.gov.

SUPPLEMENTARY INFORMATION: In the final rules section of the Federal Register, EPA is authorizing the changes by an immediate final rule without prior proposal because the Agency views this as a noncontroversial revision amendment and anticipates no relevant adverse comments to this action. A detailed rationale for the approval is set forth in the immediate final rule. If no relevant adverse comments are received in response to this action, no further activity is contemplated in relation to this action. If EPA receives relevant adverse comments, the immediate final rule will be withdrawn and all public comments received will be addressed in a subsequent final rule based on this proposed action. EPA will not institute a second comment period on this action. Any parties interested in commenting on this action should do so at this time. Please note that if EPA receives adverse comment on part of this rule and if that part can be severed from the remainder of the rule, EPA may adopt as final those parts of the rule that are not the subject of an adverse comment. For additional information, see the immediate final rule which is located in the rules section of this Federal Register.

Dated: June 27, 2013.
Mark Hague,
Acting Regional Administrator, Region 7.

[FR Doc. 2013-17038 Filed 7-19-13; 8:45 am]

BILLING CODE 6560-50-P